SURFACE TRANSPORTATION BOARD

[Docket No. AB 290 (Sub-No. 343X)]

Central of Georgia Railroad Company—Abandonment Exemption—in Newton County, Ga.

AGENCY: Surface Transportation Board.

ACTION: Correction to notice of exemption.

On July 1, 2013, Central of Georgia Railroad Company (CGA) ¹ filed a verified notice of exemption under 49 CFR pt. 1152 subpart F—Exempt Abandonments to abandon approximately 14.90 miles of rail line between milepost E 65.80 and milepost E 80.70, in Newton County, Ga. The notice was served and published in the Federal Register on July 19, 2013 (78 FR 43,273).

¹ CGA is a wholly owned subsidiary of Norfolk Southern Railway Company.

Before the exemption became effective, Newton County Trail-Path Foundation, Inc. (Newton Trail) filed a request for a notice of interim trail use (NITU). The Board issued a NITU on August 19, 2013, and on September 28, 2016, CGA and Newton Trail filed a notice informing the Board that they had entered into a lease agreement for interim trail use and rail banking for the 14.90 miles of rail line that was subject to abandonment.

On October 14, 2016, CGR filed a letter stating that the map attached as Appendix A to its July 1, 2013 verified notice did not properly depict the location of milepost E 65.80, and that parentheticals in the notice incorrectly refer to milepost E 65.80 as: “(at the point of the Line's crossing of Route 229 in Newborn).” ² Thus, CGR requests that the Board accept the corrected map attached to the October 14, 2016 letter and clarify the parenthetical references to milepost E 65.80 in its July 1, 2013 verified notice and the notice the Board served and published on July 19, 2013, to read: “(a point just east of the Ziegler Road crossing west of downtown Newborn)”. These corrections are recognized here. All of the remaining information in the July 19, 2013 notice remains unchanged.

² On October 14, 2016, CGA and Newton Trail also filed a letter to correct their September 28, 2016 notification that a lease agreement for interim trail use and rail banking had been reached. This filing as well as the modification of the NITU to reflect the correct location of milepost E 65.80 will be addressed in a separate decision.

Board decisions and notices are available on our Web site at “WWW.STB.DOT.GOV.”

Decided: November 18, 2016.
By the Board, Scott M. Zimmerman, Acting Director, Office of Proceedings.
Jeffrey Herzig,
Clearance Clerk.

[FR Doc. 2016-28295 Filed 11-22-16; 8:45 am]

BILLING CODE 4915-01-P